ENVIRONMENTAL PROTECTION AGENCY

40 CFR Parts 30, 31, 33, 35 and 40

[Docket ID No. OA-2002-0001; FRL-7560-7]

RIN 2020-AA39

Public Hearings on Participation by Disadvantaged Business Enterprises in Procurement Under Environmental Protection Agency (EPA) Financial Assistance Agreements

AGENCY: Environmental Protection Agency (EPA).

ACTION: Proposed rule; public hearings.

SUMMARY: This document announces the dates and locations of public hearings wherein EPA will take comments on its proposed rule for “Participation by Disadvantaged Business Enterprises in Procurement under Environmental Protection Agency (EPA) Financial Assistance Agreements,” published on July 24, 2003 at 68 FR 43824. These public hearings will be held during the 180-day public comment period for the proposed rule, which ends on January 20, 2004. EPA will publish information concerning additional public hearings during the comment period when that information becomes available.

EPA also will hold meetings with Tribal officials/representatives during the 180-day public comment period. EPA will publish information concerning such Tribal hearings when that information becomes available.

DATES: See SUPPLEMENTARY INFORMATION for hearing dates.

ADDRESSES: See SUPPLEMENTARY INFORMATION for addresses.

FOR FURTHER INFORMATION CONTACT: Mark Gordon, Attorney Advisor, at (202) 564-5951, Kimberly Patrick, Attorney Advisor, at (202) 564-5386, or David Sutton, Deputy Director at (202) 564-4444, Office of Small and Disadvantaged Business Utilization, U.S. Environmental Protection Agency, Mail Code 1230A, Ariel Rios Building, 1200 Pennsylvania Avenue, NW., Washington, DC 20460.

SUPPLEMENTARY INFORMATION: EPA published its proposed rule for Participation by Disadvantage Business Enterprises in Procurement under Environmental Protection Agency (EPA) Financial Assistance Agreements on July 24, 2003 at 68 FR 43824.

EPA has established an official public docket for this action under Docket ID No. OA-2002-0001. The proposed rule and supporting materials are available for public viewing at the Office of Environmental Information Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Environmental Information is (202) 566-1752. An electronic version of the public docket is available through EPA's electronic public docket and comment system, EPA Dockets. You may use EPA Dockets at http://www.epa.gov/edocket to submit or view public comments, access the index listing of the contents of the official public docket, and to access those documents in the public docket that are available electronically. Once in the system, select “search,” and then key in docket identification number OA-2002-0001.

You may access this Federal Register document electronically through the EPA Internet under the “Federal Register” listings at http://www.epa.gov/fedrgstr.

Dates: The public hearings addressed by this Federal Register Proposal are scheduled as follows:

1. September 23, 2003, 9 a.m. to 5 p.m., Philadelphia, Pennsylvania.

2. September 24, 2003, 9 a.m. to 5 p.m., Boston, Massachusetts.

3. October 22, 2003, 9 a.m. to 5 p.m., Atlanta, Georgia.

4. November 13, 2003, 9 a.m. to 5 p.m., Seattle, Washington.

5. November 18, 2003, 9 a.m. to 5 p.m., Dallas, Texas.

6. January 13, 2004, 9 a.m. to 5 p.m., Chicago, Illinois.

7. January 20, 2004, 9 a.m. to 5 p.m., San Francisco, California.

Addresses: The hearings will be held at the following locations:

1. Department of Housing and Urban Development, Wanamaker Building, Training Center Rooms 10A/B, 100 Penn Square East, Philadelphia, Pennsylvania 19107-3380.

2. Faneuil Hall, 1 Faneuil Hall Square, Boston, Massachusetts 02109.

3. Sam Nunn Atlanta Federal Center, 2nd Floor, Conference Rooms B & C, 61 Forsyth Street, Atlanta, Georgia 30303-8960.

4. Jackson Federal Building, North Auditorium, 915 Second Avenue, Seattle, Washington 98101.

5. 1445 Ross Avenue, 12th Floor Conference Room, Dallas, Texas 75202-2733.

6. Metcalfe Federal Building, Room 331, 77 West Jackson Boulevard, Chicago, Illinois 60604-3507.

7. First Floor Conference Room, 75 Hawthorne Street, San Francisco, California 94105.

Dated: September 12, 2003.
Thomas J. Gibson,
Chief of Staff.

[FR Doc. 03-23753 Filed 9-16-03; 8:45 am]

BILLING CODE 6560-50-P